DEPARTMENT OF COMMERCE

International Trade Administration

[A-475-818]

Certain Pasta From Italy: Notice of Initiation of Antidumping Duty New Shipper Review for the Period July 1, 2003, Through June 30, 2004

AGENCY: Import Administration, International Trade Administration, Department of Commerce.

ACTION: Notice of Initiation of Antidumping New Shipper Review in Certain Pasta from Italy.

EFFECTIVE DATE: September 1, 2004.

SUMMARY: The Department of Commerce (the Department) has received a request to conduct a new shipper review of the antidumping duty (AD) order on certain pasta from Italy. In accordance with section 751(a)(2)(B) of the Tariff Act of 1930, as amended (the Act), and 19 CFR 351.214(d) (2003), we are initiating an AD new shipper review for Atar S.r.L. (Atar).

FOR FURTHER INFORMATION CONTACT: Dennis McClure or James Terpstra at (202) 482-5973 and (202) 482-3965, respectively; AD/CVD Operations 3, Import Administration, International Trade Administration, U.S. Department of Commerce, 14th Street and Constitution Avenue, NW., Washington, DC 20230.

SUPPLEMENTARY INFORMATION:

Background

On July 30, 2004, the Department received a timely request from Atar, in accordance with 19 CFR 351.214(b), for a new shipper review of the AD order on certain pasta from Italy, which has a July anniversary month.¹

¹ See Certain Pasta from Italy, 61 FR 38547 (July 24, 1996).

As required by 19 CFR 351.214(b)(2)(i) and (iii)(A), Atar certified that it did not export subject merchandise to the United States during the period of investigation (POI), and that it has never been affiliated with any exporter or producer which exported subject merchandise during the POI.² Pursuant to 19 CFR 351.214(b)(2)(iv), the company submitted documentation establishing the date on which it first shipped the subject merchandise to the United States, the date of entry of that first shipment, the volume of that and subsequent shipments, and the date of the first sale to an unaffiliated customer in the United States.³

² See submission from Grunfeld, Desiderio, Lebowitz, Silverman & Klestadt LLP on behalf of Atar S.r.L. to the Department regarding Request for New Shipper Review, Case A-475-818, dated July 30, 2004.

³ Id.

Initiation of Reviews

In accordance with section 751(a)(2)(B) of the Act and 19 CFR 351.214(d), and based on information on the record, we are initiating an AD new shipper review for Atar. We intend to issue the preliminary results of this new shipper review not later than 180 days after initiation of this review. We intend to issue final results of this review no later than 90 days after the date on which the preliminary results are issued. See 19 CFR 351.214(i).

New shipper review proceeding | Period to be reviewed
Atar S.r.L. | 07/01/03-06/30/04 (AD)

We will instruct U.S. Customs and Border Protection to allow, at the option of the importer, the posting, until the completion of the reviews, of a bond or security in lieu of a cash deposit for each entry of the subject merchandise from the above-listed company in accordance with 19 CFR 351.214(e). Because Atar certified that it both produces and exports the subject merchandise, the sale of which is the basis for these new shipper review requests, we will permit the bonding privilege only with respect to entries of subject merchandise for which Atar is both the producer and exporter.

Interested parties that need access to proprietary information in this new shipper review should submit applications for disclosure under administrative protective orders in accordance with 19 CFR 351.305 and 351.306.

This initiation and notice are in accordance with section 751(a) of the Act and 19 CFR 351.214(d).

Dated: August 24, 2004.
Jeffrey A. May,
Deputy Assistant Secretary for Import Administration.

[FR Doc. E4-1983 Filed 8-31-04; 8:45 a.m.]

BILLING CODE 3510-DS-S